DEPARTMENT OF COMMERCE

International Trade Administration

[A-412-822]

Stainless Steel Bar From the United Kingdom: Notice of Extension of Time Limit for Preliminary Results in Antidumping Duty Administrative Review

AGENCY: Import Administration, International Trade Administration, Department of Commerce.

EFFECTIVE DATE: October 10, 2003.

FOR FURTHER INFORMATION CONTACT: Kate Johnson at (202) 482-4929, or Rebecca Trainor at (202) 482-4007, Office 2, AD/CVD Enforcement Group I, Import Administration, International Trade Administration, U.S. Department of Commerce, 14th Street and Constitution Avenue, NW., Washington, DC 20230.

SUMMARY: The Department of Commerce is extending the time limit for the preliminary results of the first administrative review of the antidumping duty order on stainless steel bar from the United Kingdom, which covers the period August 2, 2001, through February 28, 2003.

SUPPLEMENTARY INFORMATION: Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period. The Department finds that it is not practicable to complete the preliminary results in the administrative review of stainless steel bar from the United Kingdom within the 245-day time period because, as a result of the progress of the case and necessary verification scheduling, the verification of the sole respondent in this review is scheduled to be conducted in mid-November, which will not allow sufficient time to complete the preliminary results by the scheduled deadline of December 1, 2003.

Therefore, in accordance with section 751(a)(3)(A) of the Act, the Department is extending the time for completion of the preliminary results of this review until March 30, 2004.

Dated: October 3, 2003.
Jeffrey May,
Deputy Assistant Secretary for Import Administration.

[FR Doc. 03-25774 Filed 10-9-03; 8:45 am]

BILLING CODE 3510-DS-P